DEPARTMENT OF ENERGY

Federal Energy Regulatory Commission

[Project No. 2701-060]

Erie Boulevard Hydropower, L.P.; Notice of Application Accepted for Filing and Soliciting Comments, Motions To Intervene, and Protests

Take notice that the following hydroelectric application has been filed with the Commission and is available for public inspection:

a. Type of Application: Non-Capacity Amendment of License.

b. Project No.: 2701-060.

c. Date Filed: June 11, 2020.

d. Applicant: Erie Boulevard Hydropower, L.P.

e. Name of Project: West Canada Creek Hydroelectric Project.

f. Location: The project is located on West Canada Creek in the towns of Trenton and Russia, in Oneida and Herkimer counties, New York.

g. Filed Pursuant to: Federal Power Act 16 U.S.C. 791a-825r.

h. Applicant Contact: Mr. Jason Zehr, Brookfield Renewable, 399 Big Bay Road, Queensbury, NY 12804; telephone (518) 496-4868 and email Jason.Zehr@brookfieldrenewable.com.

i. FERC Contact: Linda Stewart, (202) 502-8184, linda.stewart@ferc.gov.

j. Deadline for filing comments, motions to intervene, and protests is 30 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2701-060. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, it must also serve a copy of the document on that resource agency.

k. Description of Request: Erie Boulevard Hydropower, L.P. (licensee) proposes to remove the existing 7.5-foot-high wooden flashboard system located atop the approximately 160-foot-long concrete auxiliary spillway at the Trenton Development and replace it with a pneumatic flashboard system (rubber dam). The purpose of the proposed pneumatic flashboard system is to address the issue of debris, which currently becomes stuck on the vertical support members of the trippable flashboards during high flow events and reduces the ability of the project to pass flows downstream. The pneumatic flashboard system would improve the licensee's operational control at the auxiliary spillway and provide clear passage for debris during high flow events.

The licensee's proposal would require minor modifications to the existing auxiliary spillway crest in order to install the rubber bladder, and the crest elevation would remain at 1,016.2 feet. When inflated, the rubber dam would have a top elevation of 1,023.9 feet, which is the existing normal reservoir elevation. The proposed work would also include the installation of conduits, anchors, drain pipes, electrical components, a control building, and new concrete along the spillway crest and abutments. The proposed amendment would not change the existing project operations, the reservoir elevation, or the spillway capacity.

l. In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified deadline date for the particular application.

o. Filing and Service of Responsive Documents: Any filing must (1) bear in all capital letters the title COMMENTS, PROTEST, or MOTION TO INTERVENE as applicable; (2) set forth in the heading the name of the applicant and the project number of the application to which the filing responds; (3) furnish the name, address, and telephone number of the person commenting, protesting, or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: June 16, 2020.
Kimberly D. Bose,
Secretary.

[FR Doc. 2020-13443 Filed 6-22-20; 8:45 am]

BILLING CODE 6717-01-P